DEPARTMENT OF JUSTICE

Office of the Attorney General; Certification of the Attorney General; Titus County, TX

In accordance with section 6 of the Voting Rights Act of 1965, as amended, 42 U.S.C. 1973d, I hereby certify that in my judgment the appointment of examiners is necessary to enforce the guarantees of the Fourteenth and Fifteenth Amendments of the Constitution of the United States in Titus County, Texas. This county is included within the scope of the determinations of the Attorney General and the Director of the Census made under section 4(b) of the Voting Rights Act of 1965 and published in the Federal Register on September 23, 1975 (40 FR 43746).

Dated: October 29, 2002.
John Ashcroft,
Attorney General of the United States.

[FR Doc. 02-27985 Filed 10-31-02; 8:45 am]

BILLING CODE 4410-13-M